DEPARTMENT OF VETERANS AFFAIRS

[OMB Control No. 2900-0227]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before May 27, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0227.”

Send comments and recommendations concerning any aspect of the information collection to VA's OMB Desk Officer, OMB Human Resources and Housing Branch, New Executive Office Building, Room 10235, Washington, DC 20503 (202) 395-7316. Please refer to “OMB Control No. 2900-0227” in any correspondence.

SUPPLEMENTARY INFORMATION: Titles:

a. Prosthetics Care and Service, VA Form 10-0142b.

b. Experiences of Patients Recently Discharged Inpatient, VA Form 10-1465-1.

c. Experiences of Patients Ambulatory Care, VA Form 10-1465-3.

d. Nutritional and Food Service, VA Form 10-5387.

OMB Control Number: 2900-0227.

Type of Review: Revision of a currently approved collection.

Abstract: Executive Order 12862, Setting Customer Service Standards, requires Federal agencies and Departments to identify and survey its customers to determine the kind and quality of services they want and their level of satisfaction with existing service. VHA uses customer satisfaction surveys to gauge customer perceptions of VA services as well as customer expectations and desires. Each collection of information will consist of the minimum amount of information necessary to determine customer needs and to evaluate VHA's performance.

The areas of concern to VHA and its customer may change over time, and it is important to have the ability to evaluate customer concerns quickly. Participation in the surveys will be voluntary and the generic clearance will not be used to collect information required to obtain or maintain eligibility for a VA program or benefit. The results of these information collections lead to improvements in the quality of VHA service delivery by helping to shape the direction and focus of specific programs and services.

An agency may not conduct or sponsor, and a person is not required to respond to a collection of information unless it displays a currently valid OMB control number. The Federal Register Notice with a 60-day comment period soliciting comments on this collection of information was published on February 19, 2003 at pages 8083-8084.

Estimated Annual Burden: 207,287 hours.

a. Prosthetics Care and Service, VA Form 10-0142b—7,200.

b. Experiences of Patients Recently Discharged Inpatient, VA Form 10-1465-1—35,000.

c. Experiences of Patients Ambulatory Care, VA Form 10-1465-3—160,500.

d. Nutritional and Food Service, VA Form 10-5387—4,587.

Estimated Average Burden Per Respondent: 23 minutes.

a. Prosthetics Care and Service, VA Form 10-0142b—24 minutes.

b. Experiences of Patients Recently Discharged Inpatient, VA Form 10-1465-1—30 minutes.

c. Experiences of Patients Ambulatory Care, VA Form 10-1465-3—30 minutes.

d. Nutritional and Food Service, VA Form 10-5387—2 minutes.

Frequency of Response: On occasion.

Estimated Number of Respondents: 546,600.

a. Prosthetics Care and Service, VA Form 10-0142b—18,000.

b. Experiences of Patients Recently Discharged Inpatient, VA Form 10-1465-1—70,000.

c. Experiences of Patients Ambulatory Care, VA Form 10-1465-3—321,000.

d. Nutritional and Food Service, VA Form 10-5387—137,600.

Dated: April 9, 2003.
By direction of the Secretary.
Martin L. Hill,
Acting Director, Records Management Service.

[FR Doc. 03-10123 Filed 4-23-03; 8:45 am]

BILLING CODE 8320-01-P